DEPARTMENT OF TRANSPORTATION

Federal Aviation Administration

14 CFR Part 71

[Docket No. FAA-2003-16091; Airspace Docket No. 03-ACE-74]

RIN 2120-AA66

Proposed Establishment of Jet Route 187 and Revision of Jet Routes 180 and 181; MO

AGENCY: Federal Aviation Administration (FAA), DOT.

ACTION: Notice of proposed rulemaking (NPRM).

SUMMARY: This action proposes to establish Jet Route 187 (J-187) from the Memphis, TN, Very High Frequency Omni-directional Range/Tactical Air Navigation (VORTAC) to the Foristell, MO, VORTAC. This action also proposes to extend J-180 from the Little Rock, AR, VORTAC to the Foristell VORTAC and realign J-181 between the Neosho Very High Frequency Omni-directional Range/Distance Measuring Equipment (VOR/DME) and the BAYLI intersection. This proposed action would enhance the management of aircraft operations over the St. Louis, MO, area.

DATES: Comments must be received on or before June 1, 2004.

ADDRESSES: Send comments on this proposal to the Docket Management System, U.S. Department of Transportation, Room Plaza 401, 400 Seventh Street, SW., Washington, DC 20590-0001. You must identify FAA Docket No. FAA-2003-16091 and Airspace Docket No. 03-ACE-74 at the beginning of your comments. You may also submit comments on the Internet at http://dms.dot.gov.

FOR FURTHER INFORMATION CONTACT: Steve Rohring, Airspace and Rules, Office of System Operations and Safety, AT0-R, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2003-16091 and Airspace Docket No. 03-ACE-74) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2003-16091 and Airspace Docket No. 03-ACE-74.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Superintendent of Document's Web page at http://www.gpoaccess.gov/fr/index.html.

You may review the public docket containing the proposal, any comments received, and any final disposition in person in the Docket Office (see ADDRESSES section for address and phone number) between 9 a.m. and 5 p.m., Monday through Friday, except Federal holidays. An informal docket may also be examined during normal business hours at the office of the Regional Air Traffic Division, Federal Aviation Administration, Central Region Headquarters, 901 Locust, Kansas City, MO 64106-2641.

Persons interested in being placed on a mailing list for future NPRM's should call the FAA's Office of Rulemaking, (202) 267-9677, for a copy of Advisory Circular No. 11-2A, Notice of Proposed Rulemaking Distribution System, which describes the application procedure.

History

As part of the National Airspace Redesign project, a review of aircraft operations has identified a need to revise the jet route structure over the St. Louis, MO, area. The FAA believes that establishing a new jet route, J-187, and revising the existing J-180 and J-181 would enhance the management of aircraft operations destined for the Lambert-St. Louis International Airport and the Chicago O'Hare International Airport.

The Proposal

The FAA is proposing an amendment to title 14 Code of Federal Regulations (14 CFR) part 71 (part 71) to establish J-187 and revise J-180 and J-181 in the St. Louis, MO, area. Specifically, this action proposes to establish J-187 from the Memphis, TN, VORTAC to the Foristell, MO, VORTAC. The FAA also proposes to revise J-180 by extending it from the Little Rock, AR, VORTAC to the Foristell VORTAC and to revise J-181 by realigning the segments between the Neosho Very High Frequency VOR/DME and the BAYLI intersection. This action would enhance the management of aircraft operations over the St. Louis, MO, area.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9L, Airspace Designations and Reporting Points, dated September 2, 2003, and effective September 16, 2003, is amended as follows:

Paragraph 2004—Jet Routes

* * * * *

J-187 (New)

From Memphis, TN; Foristell, MO.

* * * * *

J-180 (Revised)

From Humble, TX; Daisetta, TX; Sawmill, LA; Little Rock, AR; Foristell, MO.

* * * * *

J-181 (Revised)

From Ranger, TX; Okmulgee, OK; Neosho, MO; Hallsville, MO; INT Hallsville 053° (047°M) and Bradford, IL, 219° (219°M) radials; to Bradford.

* * * * *

Issued in Washington, DC, on March 30, 2004.
Reginald C. Matthews,
Manager, Airspace and Rules.

[FR Doc. 04-8506 Filed 4-14-04; 8:45 am]

BILLING CODE 4910-13-P